DEPARTMENT OF HOUSING AND URBAN DEVELOPMENT

[Docket No. FR-4566-N-09]

Announcement of OMB Approval Number for the Continuum of Care Homeless Assistance Application

AGENCY: Office of the Assistant Secretary for Community Planning and Development, HUD.

ACTION: Announcement of OMB approval number.

SUMMARY: The purpose of this notice is to announce the OMB approval number for the collection of information pertaining to the Continuum of Care Homeless Assistance Application.

FOR FURTHER INFORMATION CONTACT: Alma Thomas, Department of Housing and Urban Development, 451, 7th Street, Southwest, Washington, DC 20410, telephone (202) 708-21240. This is not a toll-free number.

SUPPLEMENTARY INFORMATION: In accordance with the Paperwork Reduction Act of 1995 (44 U.S.C. Chapter 35, as amended), this notice advises that OMB has responded to the Department's request for approval of the information collection pertaining to the Continuum of Care Homeless Assistance Application. The OMB approval number for this information collection is 2506-0112, which expires on June 30, 2003.

An agency may not conduct or sponsor, and a person is not required to respond to, a collection of information, unless it displays a currently valid OMB control number.

Dated: July 13, 2000.
Joseph D'Agosta,
General Deputy Assistant Secretary for Community Planning and Development.

[FR Doc. 00-18161 Filed 7-18-00; 8:45 am]

BILLING CODE 4210-29-M